DEPARTMENT OF HOMELAND SECURITY

Coast Guard

33 CFR Part 117

[Docket No. USCG-2013-0159]

Drawbridge Operation Regulations; Pass Manchac, LA

AGENCY: Coast Guard, DHS.

ACTION: Notice of deviation from drawbridge regulation.

SUMMARY: The Coast Guard has issued a temporary deviation from the regulation governing the operation of the Canadian National (CN) Railroad automated bascule span drawbridge across Pass Manchac, mile 6.7, at Manchac, between St. John and Tangipahoa Parishes, Louisiana. The deviation is necessary to upgrade the electrical drive system and replace the seals on the gear drive unit that operates the bridge. This deviation allows the bridge to remain closed to navigation for six hours on two consecutive days.

DATES: This deviation is effective from 8 a.m. on April 10, 2013, until 2 p.m. April 11, 2013.

ADDRESSES: The docket for this deviation, [USCG-2013-0159] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Branch Office, Coast Guard; telephone 504-671-2128, email james.r.wetherington@uscg.mil. If you have questions on viewing the docket, call Barbara Hairston, Program Manager, Docket Operations, telephone 202-366-9826.

SUPPLEMENTARY INFORMATION: The CN Railroad has requested a temporary deviation from the operating schedule for the automated bascule Span Bridge across Pass Manchac, mile 6.7, at Manchac, between St. John and Tangipahoa Parishes, Louisiana. The bridge has a vertical clearance of eight feet above mean high water, elevation 1.82 feet above Mean Sea Level in the closed-to-navigation position. Vessels requiring a clearance of less than eight feet may transit beneath the bridge during maintenance operations.

In accordance with 33 CFR 117.484, the bridge is not tended and is therefore automated. These operations are described in 33 CFR 117.484. Currently, the bridge remains open until the passage of a train at which time it closes to allow the train to pass. This deviation allows the bridge to remain closed to navigation from 8 a.m. until 2 p.m. on both Wednesday, April 10, 2013, and Thursday, April 11, 2013. At all other times, the bridge will operate in accordance with 33 CFR 117.484.

The closure is necessary to upgrade the electrical drive system and replace the seals on the gear drive unit that operates the bridge. This work is essential for the continued operation of the bridge. Notices will be published in the Eighth Coast Guard District Local Notice to Mariners and will be broadcast via the Coast Guard Broadcast Notice to Mariners System.

Navigation on the waterway consists of small tugs with and without tows, commercial vessels, and recreational craft, including sailboats. Coordination between the Coast Guard and the waterway users determined that there should not be any significant effects on these vessels. The bridge will be unable to open during these repairs and no alternate route is available.

In accordance with 33 CFR 117.35(e), the drawbridge must return to its regular operating schedule immediately at the end of the designated time period. This deviation from the operating regulations is authorized under 33 CFR 117.35.

Dated: March 14, 2013.
David M. Frank,
Bridge Administrator.

[FR Doc. 2013-06985 Filed 3-26-13; 8:45 am]

BILLING CODE 9110-04-P